DEPARTMENT OF ENERGY

Federal Energy Regulatory Commission

[Project No. 13528-000]

Soule Hydro LLC; Notice of Preliminary Permit Application Accepted for Filing and Soliciting Comments, Motions To Intervene, and Competing Applications

July 13, 2009.

On July 1, 2009, Soule Hydro LLC filed an application pursuant to section 4(f) of the Federal Power Act to study the feasibility of the proposed Soule River Hydroelectric Project No. 13528 located on the Soule River, within the Ketchikan Recording District, First Judicial District, near Hyder, Alaska. The project would occupy federal lands within the Tongass National Forest. The sole purpose of a preliminary permit, if issued, is to grant the permit holder priority to file a license application during the permit term. A preliminary permit does not authorize the permit holder to perform any land disturbing activities or otherwise enter upon lands or waters owned by others without the owners' express permission.

The proposed project would consist of: (1) A proposed concrete dam with a maximum height of 160 feet; (2) a proposed storage reservoir with a normal water surface area of 950 acres, an active storage capacity of approximately 60,000 acre-feet, and a gross storage capacity of approximately 74,000 acre-feet; (3) a proposed 12-foot-diameter, 12,000-foot-long penstock; (4) a proposed powerhouse containing 2 generating units with a total installed capacity of 75 megawatts; (5) an open channel tailrace; (6) a 138-kilovolt, 9.72 mile-long submarine cable transmission line connecting to the existing interconnection transmission system in Hyder, and (7) appurtenant facilities. The proposed Soule River Hydroelectric Project would have an average annual generation of 270 gigawatt-hours.

Applicant Contact: Mr. Norman Gross, Director, Soule Hydro LLC, 11978 Artery Drive, Fairfax, VA 22030; phone: (703) 751-2200. Mr. Bob Grimm, Alaska Power and Telephone Company, P.O. Box 3222, 193 Otto Street, Port Townsend, WA 98368; phone: (360) 385-1733 x120.

FERC Contact: Gina Krump, (202) 502-6704, gina.krump@ferc.gov.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project, including a copy of the application, can be viewed or printed on the “eLibrary” link of Commission's Web site at http://www.ferc.gov/docs-filing/elibrary.asp. Enter the docket number (P-13528) in the docket number field to access the document. For assistance, call toll-free 1-866-208-3372.

Kimberly D. Bose,
Secretary.

[FR Doc. E9-17237 Filed 7-20-09; 8:45 am]

BILLING CODE 6717-01-P